DEPARTMENT OF AGRICULTURE

Forest Service

Privacy Act of 1974; Abolish Obsolete System of Records

AGENCY: Forest Service, USDA.

ACTION: Notice.

SUMMARY: The Forest Service has reviewed the Forest Service system of records, USDA/FS-43, Emergency Fire Mobilization Plan Director, and concluded that the system is obsolete. That system is being abolished from the Forest Service Systems of Records in accordance with the Privacy Act of 1974 (5 U.S.C. 552a), as amended.

DATES: This notice is effective on December 28, 2004.

ADDRESSES: For additional information contact Rita Morgan, Freedom of Information and Privacy Act Officer, Forest Service, USDA, 1400 Independence Avenue, SW., Mail Stop 1143, Washington, DC 20250-1143.

FOR FURTHER INFORMATION CONTACT: Rita Morgan, Freedom of Information and Privacy Act Officer, at (703) 605-4913.

SUPPLEMENTARY INFORMATION: The Privacy Act of 1974 (5 U.S.C. 552a), as amended, requires that each agency publish a notice of the existence and character of each new or altered “system of records.” 5 U.S.C. 552a(a)(5). This Notice identifies and abolishes an obsolete Forest Service system of records. the Forest Service is abolishing the following system of records which, upon review, is no longer used, and is, therefore, obsolete: USDA/FS-43, Emergency Fire Mobilization Plan Directory.

Dated: December 13, 2004.
Robin L. Thompson,
Associate Deputy Chief, State and Private Forestry.

[FR Doc. 04-28241 Filed 12-27-04; 8:45 am]

BILLING CODE 3410-11-M